DEPARTMENT OF VETERANS AFFAIRS

[OMB Control No. 2900-0609]

Agency Information Collection (VA Survey of Veteran Enrollees' Health and Use of Health Care (Survey of Enrollees)) Activity Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden; it includes the actual data collection instrument.

DATES: Comments must be submitted on or before March 7, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0609” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0609.”

SUPPLEMENTARY INFORMATION: Title: Survey of Veteran Enrollees' Health and Use of Health Care (Survey of Enrollees).

OMB Control Number: 2900-0609.

Type of Review: Revision of a currently approved collection.

Abstract: The Department of Veterans Affairs (VA) Survey of Veteran Enrollees' Health and Use of Health Care (Survey of Enrollees) gathers information from Veterans enrolled in the VA Health Care System regarding factors which influence their health care utilization choices. Data collected are used to gain insights into Veteran preferences and to provide VA and VHA management guidance in preparing for future Veteran needs. In addition to factors influencing health care choices, the data collected include enrollees' perceived health status and need for caregiver support, available insurances, self-reported utilization of VA services versus other health care services, reasons for using VA, barriers to seeking care, ability and comfort level with accessing virtual care, as well as general demographics and family characteristics that may influence utilization but cannot be accessed elsewhere.

An agency may not conduct or sponsor, and a person is not required to respond to a collection of information unless it displays a currently valid OMB control number. The Federal Register Notice with a 60-day comment period soliciting comments on this collection of information was published at 80 FR 72786 on November 20, 2015.

Affected Public: Individuals or households.

Estimated Annual Burden: 14,700 hours.

Estimated Average Burden per Respondent: 21 minutes.

Frequency of Response: Annually.

Estimated Annual Responses: 42,000.

By direction of the Secretary.
Crystal Rennie,
Department Clearance Officer,Department of Veterans Affairs.

[FR Doc. 2016-02178 Filed 2-4-16; 8:45 am]

BILLING CODE 8320-01-P